Title 3—

The President

Proclamation 9719 of April 2, 2018

World Autism Awareness Day, 2018

By the President of the United States of America

A Proclamation

World Autism Awareness Day is an opportunity to recognize and support all children and adults with autism spectrum disorder (ASD). Today, millions of adults and an estimated 1 out of every 68 children in the United States have been diagnosed with some form of ASD. Notwithstanding these diagnoses, Americans with ASD make exceptional contributions across our Nation and around the world. On this day, we honor their accomplishments and recommit to ensuring that they enjoy the same opportunities to fulfill their potential that all Americans deserve.

To maximize the quality of life across the entire autism spectrum, we must ensure that ASD is accurately identified and diagnosed in both children and adults. We must also support access to effective care, critical resources, and support services. To further these important goals, I was pleased to sign into law the Recognize, Assist, Include, Support, and Engage (RAISE) Family Caregivers Act, which will provide a national framework to support families as they care for loved ones with ASD and other similar conditions.

My Administration also continues to focus on young adults with ASD. The Department of Health and Human Services, in accordance with the Autism CARES Act of 2014 and in coordination with other executive departments and agencies, has released a report that details services available for young people with ASD as they leave secondary education to help them transition to adulthood. In addition, the Department's Interagency Autism Coordinating Committee ensures robust engagement with people with ASD and their families to help inform policies and priorities. My Administration remains focused on this critical work and committed to advancing initiatives that improve the lives of those living with ASD.

On World Autism Awareness Day, let us renew our commitment to support the entire international ASD community, including children and adults with ASD, their families, and caregivers. Together, we can increase access to information, encourage heightened understanding of ASD, promote respect and dignity, and support the services that assist people with ASD to reach their full potential.

NOW, THEREFORE, I, DONALD J. TRUMP, President of the United States of America, by virtue of the authority vested in me by the Constitution and the laws of the United States, do hereby proclaim April 2, 2018, World Autism Awareness Day. I encourage all Americans to learn more about autism, and find ways to support people with autism and their families and caregivers.

IN WITNESS WHEREOF, I have hereunto set my hand this second day of April, in the year of our Lord two thousand eighteen, and of the Independence of the United States of America the two hundred and forty-second.

[FR Doc. 2018-07143

Filed 4-4-18; 11:15 am]

Billing code 3295-F8-P